DEPARTMENT OF COMMERCE

National Oceanic and Atmospheric Administration

RIN 0648-XA47

Endangered and Threatened Species; Recovery Plans

AGENCY: National Marine Fisheries Service (NMFS), National Oceanic and Atmospheric Administration, Commerce.

ACTION: Notice of availability; recovery plan

SUMMARY: The National Marine Fisheries Service (NMFS) announces the adoption of an Endangered Species Act (ESA) Recovery Plan (Recovery Plan) for the Hood Canal and Eastern Strait of Juan de Fuca Summer Chum Salmon (Oncorhynchus keta) Evolutionarily Significant Unit (ESU). The Recovery Plan consists of two documents: the Hood Canal and Eastern Strait of Juan de Fuca Summer Chum Salmon Recovery Plan prepared by the Hood Canal Coordinating Council (HCCC Plan), and a NMFS Final Supplement to the HCCC Plan (Supplement). The Final Supplement contains revisions and additions in consideration of public comments on the proposed Recovery Plan for Hood Canal summer chum salmon.

ADDRESSES: Additional information about the Recovery Plan may be obtained by writing to Elizabeth Babcock, National Marine Fisheries Service, 7600 Sandpoint Way N.E., Seattle, WA 98115, or calling (206) 526-4505.

Electronic copies of the Recovery Plan and the summary of and response to public comments on the proposed Recovery Plan are available online at www.nwr.noaa.gov/Salmon Recovery Planning/Recovery Domains/Puget Sound/Index.cfm, or the Hood Canal Coordinating Council website, www.hccc.wa.gov/. A CD-ROM of the documents can be obtained by calling Sharon Houghton at (503) 230-5418 or by e-mailing a request to sharon.houghton@noaa.gov, with the subject line “CD-ROM Request for Final ESA Recovery Plan for Hood Canal Summer Chum Salmon.”

FOR FURTHER INFORMATION CONTACT: Elizabeth Babcock, NMFS Puget Sound Salmon Recovery Coordinator at (206) 526-4505, or Elizabeth Gaar, NMFS Salmon Recovery Division at (503) 230-5434.

SUPPLEMENTARY INFORMATION:

Background

Recovery plans describe actions beneficial to the conservation and recovery of species listed under the Endangered Species Act of 1973 (ESA), as amended (16 U.S.C. 1531 et seq.). The ESA requires that recovery plans, to the extent practicable, incorporate (1) objective, measurable criteria which, when met, would result in a determination that the species is no longer threatened or endangered; (2) site-specific management actions that may be necessary to achieve the plan's goals; and (3) estimates of the time required and costs to implement recovery actions. The ESA requires the development of recovery plans for listed species unless such a plan would not promote the recovery of a particular species.

NMFS' goal is to restore endangered and threatened Pacific salmon ESUs and steelhead distinct population segments (DPSs) to the point that they are again self-sustaining members of their ecosystems and no longer need the protections of the ESA. NMFS believes it is critically important to base its recovery plans on the many state, regional, tribal, local, and private conservation efforts already underway throughout the region. Therefore, the agency supports and participates in locally led collaborative efforts to develop recovery plans, involving local communities, state, tribal, and Federal entities, and other stakeholders. As the lead ESA agency for listed salmon, NMFS is responsible for reviewing these locally produced recovery plans and deciding whether they meet ESA statutory requirements and merit adoption as ESA recovery plans.

On November 15, 2005, the Hood Canal Coordinating Council (HCCC), a regional council of governments, presented its locally developed listed species recovery plan (HCCC Plan) to NMFS. The HCCC is a watershed-based council of governments that was established in 1985 in response to concerns about water quality problems and related natural resource issues in the watershed. It was incorporated in 2000 as a 501(c)(3) Public Benefit Corporation under RCW 24.03. Its board of directors includes the county commissioners from Jefferson, Kitsap, and Mason counties, and elected tribal council members from the Skokomish and Port Gamble S'Klallam Tribes. It also includes a slate of ex-officio board members composed of representatives from state and Federal agencies.

After reviewing the HCCC Plan, NMFS prepared a Supplement, clarifying how the HCCC Plan satisfies ESA recovery plan requirements and addressing additional elements needed to comply with those requirements. A notice of availability soliciting public comments on the proposed Recovery Plan was published in the Federal Register on August 16, 2006 (71 FR 47180). NMFS received three comment letters on the HCCC Plan and draft Supplement. NMFS summarized the public comments and prepared responses, now available on the NMFS website at www.nwr.noaa.gov/Salmon-Recovery-Planning/Recovery-Domains/Puget-Sound/Hood-Canal-Plan.cfm. NMFS has revised its Supplement based on the comments received. The HCCC Plan and the Final Supplement now, together, constitute the ESA Recovery Plan for the Hood Canal and eastern Strait of Juan de Fuca summer-run chum salmon.

By endorsing this locally developed recovery plan, NMFS is making a commitment to implement the actions in the plan for which it has authority, to work cooperatively on implementation of other actions, and to encourage other Federal agencies to implement Recovery Plan actions for which they have responsibility and authority. NMFS will also encourage the State of Washington to seek similar implementation commitments from state agencies and local governments. NMFS expects the Recovery Plan to help NMFS and other Federal agencies take a more consistent approach to future ESA Section 7 consultations and other ESA decisions. For example, the Recovery Plan will provide greater biological context for the effects that a proposed action may have on the listed ESU. Recovery Plan science will become a component of the “best available information” reviewed for ESA section 7 consultations, section 10 permits and habitat conservation plans, and other ESA decisions. Such information includes viability criteria for the ESU and its independent populations, better understanding of and information on limiting factors and threats facing the ESU, better information on priority areas for addressing specific limiting factors, and better geographic context for assessing where the ESU can tolerate varying levels of risk while still maintaining overall viability.

The Recovery Plan

The HCCC Plan is one of many ongoing salmon recovery planning efforts funded under the Washington State Strategy for Salmon Recovery. The State of Washington designated the HCCC as the Lead Entity for salmon recovery planning for the Hood Canal watershed. The HCCC has consistently involved the public in its recovery planning process.

The HCCC Plan draws extensively on the research and publications of the Summer Chum Salmon Conservation Initiative (SCSCI) (WDFW and PNPTT 2000), an ongoing planning forum initiated in 2000 by the Point No Point Treaty Tribes (PNPTT) and Washington Department of Fish and Wildlife (WDFW) (WDFW and PNPTT 2000). PNPTT and WDFW are the co-managers directly responsible for fisheries harvest and hatchery management for the Hood Canal and eastern Strait of Juan de Fuca watersheds. The PNPTT comprises the Skokomish, Port Gamble S'Klallam, Jamestown S'Klallam, and Lower Elwha Klallam Tribes, which have Treaty rights to usual and accustomed fishing in this area. The SCSCI provides a mechanism for the development and implementation of harvest management regimes and supplementation programs designed to bring about the recovery of summer chum salmon when integrated with habitat protection and restoration, also considered in the process. Annual reviews are documented in supplemental reports (e.g., WDFW and PNPTT 2003 and PNPTT and WDFW 2003), which can be found at wdfw.wa.gov/fish/chum/chum.htm.

The HCCC Plan makes extensive use of the SCSCI and subsequent supplemental reports, as well as the watershed plans for Watershed Resource Inventory Areas 14, 15, 16, 17, and 18 (Correa, 2002; Correa, 2003; Kuttel, 2003). The fishery co-managers (WDFW and PNPTT) participated in the development of aspects of this plan, and it is designed to support and complement the co-managers' fisheries and salmon recovery goals and objectives.

As in other regional domains defined by NMFS Northwest Region, the Hood Canal planning effort was supported by a NMFS-appointed science panel, the Puget Sound Technical Recovery Team (PSTRT). This panel of seven scientific experts from Federal, state, local, private, and tribal organizations identified historical populations and recommended ESU viability criteria. They provided scientific review of the HCCC Plan. In addition, staff biologists of the Skokomish and Port Gamble S'Klallam Tribes reviewed the HCCC Plan at each stage, and County staff reviewed the land use planning sections. NMFS Northwest Region staff biologists also reviewed draft versions of the HCCC Plan and provided substantial guidance for revisions.

The Recovery Plan incorporates the NMFS viable salmonid population (VSP) framework as a basis for biological status assessments and recovery goals for Hood Canal summer chum salmon, and the Supplement incorporates the most recent work of the PSTRT on viability criteria for this ESU.

ESU Addressed and Planning Area

The Recovery Plan will be implemented within the range of the Hood Canal summer-run chum salmon ESU (Oncorhynchus keta), listed as threatened on March 25, 1999 (64 FR 14508). NMFS reviewed the ESU in 2005 and determined that it still warranted ESA protection (Good et al., 2005). The range of the Hood Canal summer-run chum salmon is the northeastern portion of the Olympic Peninsula in Washington State. The ESU includes summer-run chum salmon populations that spawn naturally in tributaries to Hood Canal as well as in Olympic Peninsula rivers between Hood Canal and Dungeness Bay. The recovery planning area includes portions of the Washington counties of Jefferson, Mason, Kitsap, and Clallam; the reservations of the Skokomish, Port Gamble S'Klallam, and Jamestown S'Klallam Tribes; and portions of Water Resource Inventory Areas 14, 15, 16, 17, and 18.

The Recovery Plan focuses on the recovery of Hood Canal summer chum salmon. Two other ESA-listed salmonid species, Puget Sound Chinook salmon and Coastal/Puget Sound bull trout, are indigenous to the Hood Canal and eastern Strait of Juan de Fuca regions encompassed by the Recovery Plan. On June 30, 2005, the Shared Strategy for Puget Sound, a nonprofit organization that coordinates recovery planning for Puget Sound Chinook, submitted a recovery plan for Puget Sound Chinook salmon to NMFS. On December 27, 2005, NMFS published a Notice of Availability of the Shared Strategy plan as a proposed recovery plan for Puget Sound Chinook (70 FR 76445). The final Puget Sound Chinook Salmon Recovery Plan was published January 19, 2007. Coastal/Puget Sound bull trout are under the jurisdiction of the U.S. Fish and Wildlife Service (USFWS) and are the subject of a recovery plan published by the USFWS in May 2004. Many of the actions identified in the Hood Canal summer chum salmon plan will also benefit the latter two species. The Shared Strategy and HCCC will work together to make their respective recovery efforts consistent and complementary.

The PSTRT identified two independent populations of Hood Canal summer chum. The Strait of Juan de Fuca population spawns in rivers and streams entering the eastern Strait and Admiralty Inlet. The Hood Canal population includes all spawning aggregations within the Hood Canal watershed (Sands et al., 2007).

Sixteen historically present “stocks,” of which eight are extant, made up the Hood Canal Summer-Run Chum Salmon ESU. The co-managers identified these stocks in the SCSCI and subsequent supplemental reports (WDFW and PNPTT 2000, 2003). The PSTRT considers these stocks “subpopulations, which contribute to either the Hood Canal or Strait of Juan de Fuca population, depending on their geographical location” (Currens, 2004, p. 19). As noted in the HCCC Plan, the PSTRT report stated that summer chum salmon in the Hood Canal and eastern Strait are probably “a single metapopulation held together historically by a stepping stone pattern of demographic exchange” (Currens, ibid.), created by straying between adjacent streams.

For planning purposes, the HCCC Plan assigned the 16 stocks to six geographic groupings called “conservation units.” The HCCC Plan organizes descriptions of population status, limiting factors and threats, and recommended site-specific actions based on these conservation units.

Recovery Goals, Objectives and Criteria

The overall goal of the HCCC Plan is to achieve recovery and delisting of the summer-run chum salmon in Hood Canal and the eastern Strait of Juan de Fuca. The HCCC Plan's recovery strategy focuses on habitat protection and restoration throughout the geographic range of the ESU; the plan incorporates the co-managers' harvest management and hatchery supplementation programs that are ongoing as part of the SCSCI. The HCCC Plan also includes reintroduction of natural-origin summer chum salmon aggregations to several streams where they were historically present.

ESU Viability Criteria

Evaluating a species for potential delisting requires an explicit analysis of population or demographic parameters (biological recovery criteria) and also of threats under the five ESA listing factors in ESA section 4(a)(1). Together these make up the “objective, measurable criteria” required under section 4(f)(1)(B). While the ESU is the listed entity under the ESA, the ESU-level viability criteria are based on the collective viability of the individual populations that make up the ESU their characteristics and their distribution throughout the ESU's geographic range.

The Recovery Plan adopts both long-term viability criteria and short-term recovery goals or targets for the two populations of Hood Canal summer chum. The long-term viability criteria were identified by the PSTRT (Sands et al., 2007) and describe characteristics predicted to result in a negligible risk of extinction for the ESU in 100 years. The short-term criteria are “interim” recovery goals for the next 10 years that were developed by the co-managers in the SCSCI (PNPTT and WDFW 2003). These two sets of criteria are based on different, but compatible, approaches. Both may be refined as new information becomes available.

The NMFS Supplement published in 2006 included viability criteria for each of the two independent populations of Hood Canal summer-run chum salmon identified by the PSTRT. In early 2007, the PSTRT completed additional viability modeling for both populations. That work was shared with state, tribal, and HCCC technical staff. NMFS updated the viability criteria for both populations based on the PSTRT's additional analysis and the input from technical staff. This ESA Recovery Plan includes viability criteria based on both methods of analysis.

NMFS has asked the PSTRT to continue to work with HCCC staff and the co-managers to integrate the interim recovery goals described in the HCCC Plan with the long-term criteria for the ESU. This will not necessitate a revision of the HCCC Plan, but will be considered part of the adaptive management and implementation phase of the Recovery Plan.

Adaptive Management

Adaptive management is the process of adjusting management actions and/or directions based on new information. It requires building an evaluation method into an implementation plan, so that selection and design of future recovery actions can be adjusted depending on the results of previous actions. Adaptive management is essential to salmon recovery planning. The HCCC Plan incorporates by reference the integrated program for monitoring, evaluation, and adaptive management included in the SCSCI (WDFW and PNPTT 2000, Part 4, Sections 4.2.5 and 4.2.5). In addition, the HCCC is developing a monitoring and adaptive management element in its overall implementation plan. NMFS will continue to work with the HCCC on its adaptive management program as appropriate during plan implementation.

Causes for Decline and Current Threats

Listing factors are those features that were evaluated under section 4(a)(1) when the initial determination was made to list the species for protection under the ESA. These factors are: (a) The present or threatened destruction, modification, or curtailment of a species' habitat or range; (b) overutilization for commercial, recreational, or educational purposes; (c) disease or predation; (d) the inadequacy of existing regulatory mechanisms; and (e) other natural or man made factors affecting the species' continued existence. These may or may not still be limiting recovery when in the future NMFS reevaluates the status of the species to determine whether the protections of the ESA are no longer warranted and the species could be delisted. In the Recovery Plan, NMFS provides specific criteria for each of the relevant listing/delisting factors to help ensure that underlying causes of decline have been addressed and mitigated prior to considering the species for delisting.

The HCCC Plan identifies the main causes for the decline of the Hood Canal summer chum as (1) climate-related changes in stream flow patterns, (2) past fishery exploitation, and (3) cumulative habitat loss.

Climate change: NMFS agrees that summer chum are particularly sensitive to variations in instream flows, which vary naturally between years and perhaps over decades. However, NMFS cautions that possible changes in climate over the past 30 years were reasoned from flow records and have not been investigated by a detailed study. NMFS expects that current, ongoing research on impacts of climate change on salmon habitat restoration (e.g., Battin et al., 2007) will further clarify this question.

Harvest: The Recovery Plan draws upon data and conclusions from the SCSCI indicating that harvest (including in U.S. and Canada) was a factor in the decline of summer chum salmon prior to 1992. Exploitation rates ranging from 21 percent for the Salmon/Snow and Jimmycomelately populations to 90 percent for the Quilcene population were seen to correlate with declines in escapements. Beginning in 1992 and culminating in the implementation of the SCSCI in 2000, the co-managers designed harvest management regimes to limit mortality from fishing to a rate that allows the vast majority of summer chum salmon to return to their natal spawning grounds. Implementation of the harvest management strategy since 2000 has worked as expected. Escapements have increased to all components of the ESU, and observed exploitation rates are even lower than anticipated (below 3 percent and 1 percent for Hood Canal and Strait of Juan de Fuca populations, respectively).

Habitat: Chapter 6 of the HCCC Plan summarizes overall habitat issues for the ESU. More detail is included in the HCCC Plan's individual chapters on conservation units. NMFS' 2005 Report to Congress on the Pacific Coastal Salmon Recovery Fund (PCSRF) described habitat-related factors for decline as the following: (1) Degraded floodplain and mainstem river channel structure; (2) degraded estuarine conditions and loss of estuarine habitat; (3) riparian area degradation and loss of in-river large woody debris in mainstem; (4) excessive sediment in spawning gravels; (5) reduced stream flow in migration areas; (6) degraded nearshore conditions. These factors are all covered in detail in the HCCC Plan.

Site-Specific Actions

The HCCC Plan lists potential sources of funding, administrative paths, and target activities that could be undertaken for salmon recovery in the region (pp. 43-45), then makes site-specific recommendations based on conservation units (Chapters 7-12). A full range of policy options for acquiring, funneling, and allocating resources for salmon habitat conservation was developed and presented to the members of the HCCC Board for review and decision-making.

Habitat: The HCCC provided a summary table for the Supplement, linking limiting factors and recommended habitat actions by conservation unit and stock.

Harvest: The co-managers developed through the SCSCI a harvest management strategy called the Base Conservation Regime (BCR) (details in WDFW and PNPTT 2000, section 3.5.6.1). The intent of the BCR is to initiate rebuilding by fostering incremental increases in escapement over time, while providing a limited opportunity for fisheries conducted for the harvest of other salmon species. The BCR will pass through to spawning escapement, on average, in excess of 95 percent of the Hood Canal-Strait of Juan de Fuca summer chum salmon abundance in U.S. waters.

The harvest management component of the SCSCI was provided to NMFS in 2000 as the co-managers' proposed joint Resource Management Plan (RMP) for managing salmon fisheries to meet summer chum salmon ESA conservation needs. NMFS subsequently determined that the RMP adequately addressed all requirements specified under Limit 6 of the ESA 4(d) Rule for Hood Canal summer chum salmon (66 FR 31600, June 12, 2001). More information can be found at www.nwr.noaa.gov/Salmon-Harvest-Hatcheries/State-Tribal-Management/HC-Chum-RMP.cfm. NMFS and the co-managers will continue to evaluate the performance of the harvest management strategy as new information becomes available, consistent with the evaluation and adaptive management elements of the SCSCI and the Recovery Plan.

Hatcheries: The HCCC Plan incorporates the supplementation and reintroduction approach implemented by the co-managers under the SCSCI beginning in 1992 to conserve summer chum salmon in the action area. Under the SCSCI, artificial production directed at summer chum recovery is applied only to preserve stocks identified as at moderate or high risk of extinction, and to reintroduce naturally spawning aggregations in selected watersheds from which the indigenous stocks have been extirpated. Hatchery supplementation programs use native broodstock, allow hatchery-origin fish to spawn naturally, are carefully monitored and evaluated, and are scheduled to be terminated in a maximum of three salmon generations. Four such programs have met their goals and have been terminated. In addition, implementation of conservation hatchery actions was guided by these premises: “Commensurate, timely improvements in the condition of habitat critical for summer chum salmon survival are necessary to recover the listed populations to healthy levels. . . The intent of the supplementation efforts is to reduce the short-term extinction risk to existing wild populations, and to increase the likelihood of their recovery” (HCCC Plan, p. 54).

NMFS agrees with the PSTRT's conclusion in its 2005 review of the HCCC Plan that the hatchery strategy to supplement summer chum in Hood Canal is very well designed and has been well implemented throughout its tenure. The monitoring information resulting from the hatchery program is exemplary, and the co-managers have used the data to adjust their supplementation strategies as needed.

Time and Cost Estimates

The ESA section 4(f)(1) requires that the recovery plan include “estimates of the time required and the cost to carry out those measures needed to achieve the plan's goal and to achieve intermediate steps toward that goal” (16 U.S.C. 1533(f)(1)). Appendix D of the recovery plan (Costing of the Hood Canal Coordinating Council's Summer Chum Salmon Recovery Plan, August 2004) provides cost estimates to carry out specific recovery actions for the first 10 years of plan implementation. The cost estimates cover all capital projects judged to be feasible in the six conservation units, as well as non-capital work projected to occur over the 10-year period.

The HCCC Plan contains an extensive list of actions that need to be undertaken to recover Hood Canal summer chum salmon; however, there are many uncertainties involved in predicting the course of recovery and in estimating total costs. Such uncertainties include biological and ecosystem responses to recovery actions as well as long-term and future funding. NMFS supports the HCCC Plan's determination to focus on the first 10 years of implementation, provided that, before the end of this first implementation period, specific actions and costs will be estimated for subsequent years, to achieve long-term goals and to proceed until a determination is made that listing is no longer necessary.

NMFS estimates that recovery of the Hood Canal Summer Chum ESU, like recovery for most of the ESA-listed Pacific Northwest salmon, could take 50 to 100 years. The HCCC Plan provides a total estimated cost for the first ten years of approximately $136 million. This estimate includes approximately $2 million for continuing agency and organization costs, and it is conceivable that this level of effort will need to continue for the Plan's duration. Also, continued actions in the management of habitat, hatcheries, and harvest, including both capital and non-capital costs, will likely warrant additional expenditures beyond the first 10 years. Although it is not practicable to accurately estimate the total cost of recovery, it appears that most of the costs will occur in the first 10 years. The costs for the remaining years are expected to be lower, possibly ranging from a total of $15 million to $65 million.

Periodic Status Reviews

In accordance with its responsibilities under section 4(c)(2) of the Act, NMFS will conduct status reviews of Hood Canal summer chum salmon once every five years to evaluate the ESU's status and determine whether the ESU should be removed from the list or changed in status. Such evaluations will take into account the following:

• The biological recovery criteria (Sands et al., 2007) and listing factor (threats) criteria described in the Supplement.

• Management programs in place to address the threats.

• Principles presented in the Viable Salmonid Populations paper (McElhany et al., 2000).

• Co-managers' interim stock-level recovery goals.

• Best available information on population and ESU status and new advances in risk evaluation methodologies.

• Other considerations, including: the number and status of extant spawning groups; the status of the major spawning groups; linkages and connectivity among groups; diversity groups and the two populations; the diversity of life history and phenotypes expressed; and considerations regarding catastrophic risk.

• Principles laid out in NMFS' Hatchery Listing Policy (June 28, 2005, 70 FR 37204).

Conclusion

NMFS reviewed the HCCC Plan, the public comments, and the notes and conclusions of the PSTRT from its reviews of the HCCC Plan in May and July 2005. Based on that evaluation, NMFS concludes that the HCCC Plan, in combination with this NMFS Supplement, meets the requirements in section 4(f) of the ESA for developing a recovery plan.

Literature Cited

Battin, J., M.W. Wiley, M.H. Ruckelshaus, R.N. Palmer, E. Korb, K.K. Bartz, and H. Imaki. 2007. Projected impacts of climate change on salmon habitat restoration. PNAS 104:16:6720-6725. April 17, 2007.

Correa, G. 2002. Salmon and Steelhead Habitat Limiting Factors. Water Resource Inventory Area 17. Quilcene-Snow Basin. Washington State Conservation Commission. Final Report. November 2002. 316p.

Correa, G. 2003. Salmon and Steelhead Habitat Limiting Factors. Water Resource Inventory Area 16. Dosewallips-Skokomish Basin. Washington State Conservation Commission. Final Report. June 2003. 257p.

Currens, K. 2004. Identification of independent populations of summer chum salmon and their recovery targets. January 29, 2004, draft document. Northwest Fisheries Science Center. NOAA Fisheries. Seattle, Washington. 18p.

Good, T.P., R.S. Waples, and P. Adams (editors). 2005. Updated status of federally listed ESUs of West Coast salmon and steelhead. U.S. Dept. Commerce, NOAA Tech. Memo. NMFS-NWFSC-66. 598p.

Kuttel, M., Jr. 2003. Salmon and Steelhead Habitat Limiting Factors. Water Resource Inventory Areas 15 (West), Kitsap Basin and 14 (North) Kennedy-Goldsborough Basin. Washington State Conservation Commission. Final Report. June 2003. 312p.

McElhany, P., M. H. Ruckelshaus, M. J. Ford, T. C. Wainwright, E. P. Bjorkstedt. 2000. Viable salmon populations and the recovery of evolutionarily significant units. U.S. Dept. of Commerce, NOAA Tech. Memo., NMFS-NWFSC-42. 156p.

Point No Point Treaty Tribes (PNPTT) and Washington Department of Fish and Wildlife (WDFW). 2003. Summer chum salmon conservation initiative—an implementation plan to recover summer chum salmon in the Hood Canal and Strait of Juan de Fuca region.

Supplemental report No. 5. Report on summer chum salmon interim recovery goals. Washington Department of Fish and Wildlife. Olympia, Washington. Washington Department of Fish and Wildlife. Olympia, Washington.

Sands, N.J., K. Rawson, K. Currens, B. Graeber, M. Ruckelshaus, B. Fuerstenberg, and J. Scott. 2007. Dawgz 'n the Hood: The Hood Canal Summer Chum Salmon ESU. February 28, 2007 draft document available at: www.nwfsc.noaa.gov/trt/trt_puget.cfm.

Washington Department of Fish and Wildlife (WDFW) and the Point No Point Treaty Tribes (PNPTT). 2000. Summer chum salmon conservation initiative—an implementation plan to recover summer chum in the Hood Canal and Strait of Juan de Fuca region. Fish Program, Washington Department of Fish and Wildlife. Olympia, Washington. 424p. plus three appendices.

2003. Summer chum salmon conservation initiative—an implementation plan to recover summer chum in the Hood Canal and Strait of Juan de Fuca region. Supplemental report No. 3. Annual report for the 2000 summer chum salmon return to the Hood Canal and Strait of Juan de Fuca region. Washington Department of Fish and Wildlife, Olympia, Washington. 123p.

Authority: 16 U.S.C. 1531 et seq.

Dated: May 21, 2007.
Angela Somma,
Chief, Endangered Species Division, Office of Protected Resources, National Marine Fisheries Service.

[FR Doc. E7-10074 Filed 5-23-07; 8:45 am]

BILLING CODE 3510-22-S